DEPARTMENT OF STATE

[Public Notice 4985]

30-Day Notice of Proposed Information Collection: DS 4053, Department of State Mentor-Protégé Program Application, OMB Control Number 1405-XXXX

ACTION: Notice of request for public comment and submission to OMB of proposed collection of information.

SUMMARY: The Department of State has submitted the following information collection request to the Office of Management and Budget (OMB) for approval in accordance with the Paperwork Reduction Act of 1995.

• Title of Information Collection: Department of State Mentor-Protégé Program Application,

• OMB Control Number: 1405-XXXX.

• Type of Request: New Collection.

• Originating Office: Bureau of Administration, A/SDBU.

• Form Number: DS 4053.

• Respondents: Small and large for-profit companies planning to team together in an official mentor-protégé capacity to improve the likelihood of winning DOS contracts.

• Estimated Number of Respondents: 20 respondents per year.

• Estimated Number of Responses: 10 per year.

• Average Hours Per Response: 21.

• Total Estimated Burden: 210.

• Frequency: On Occasion.

• Obligation to Respond: Voluntary.

DATES: Submit comments to the Office of Management and Budget (OMB) for up to 30 days from February 2, 2005.

ADDRESSES: Direct comments and questions to Alex Hunt, the Department of State Desk Officer in the Office of Information and Regulatory Affairs at the Office of Management and Budget (OMB), who may be reached on 202-395-7860. You may submit comments by any of the following methods:

• E-mail: ahunt@omb.eop.gov. You must include the DS form number (if applicable), information collection title, and OMB control number in the subject line of your message.

• Hand Delivery or Courier: OIRA, Department of State Desk Officer, Office of Management and Budget, 725 17th Street, NW., Washington, DC 20503

• Fax: 202-395-6974

FOR FURTHER INFORMATION CONTACT: You may obtain copies of the proposed information collection and supporting documents from Patricia Culbreth, A/SDBU, SA-6, Rm. L-500, Washington DC, 20522, who may be reached on 703-875-6881. E-mail, culbrethpb@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

This information collection facilitates implementation of a mentor-protégé program that encourages business agreements between small and large for-profit companies planning to team together in an official mentor-protégé capacity to improve the likelihood of winning DOS contracts. Such a program should assist the State Department OSDBU office in reaching its small business goals.

Methodology:

Respondents may submit the information by e-mail using DS-4053, or by letter using fax or postal mail.

Additional Information: None.

Dated: November 23, 2004.
Durie N. White,
Operations Director, Bureau of Administration, Department of State.

[FR Doc. 05-1929 Filed 2-1-05; 8:45 am]

BILLING CODE 4710-24-P